FEDERAL COMMUNICATIONS COMMISSION

47 CFR Part 73

[MB Docket No. 05-112; MB Docket No. 05-151; RM-11185; RM-11374; RM-11222; RM-11258]

Radio Broadcasting Services; Converse, Flatonia, Georgetown, Goldthwaite, Ingram, Junction, Lago Vista, Lakeway, Llano, McQueeney, Nolanville, San Antonio, Waco, TX

AGENCY: Federal Communications Commission.

ACTION: Final rule; denial of petition for reconsideration.

SUMMARY: This document denies a Petition for Reconsideration filed by Rawhide Radio, LLC, Clear Channel Broadcasting Licenses, Inc., CCB Texas Licenses, LP, and Capstar TX Limited Partnership (“Joint Parties”) of a Report and Order that denied a Counterproposal filed by the Joint Parties and granted a mutually exclusive Counterproposal filed by Munbilla Broadcasting Properties, Ltd. See Supplementary Information.

ADDRESSES: Federal Communications Commission, 445 Twelfth Street SW., Washington, DC 20554.

DATES: August 19, 2014.

FOR FURTHER INFORMATION CONTACT: Andrew J. Rhodes, Media Bureau (202) 418-2700.

SUPPLEMENTARY INFORMATION: This is a synopsis of the consolidated Memorandum Opinion and Order in MB Docket No. 05-112 and MB Docket No. 05-151, adopted July 23, 2014, and released July 24, 2014 The full text of this decision is available for inspection and copying during normal business hours in the FCC Reference Information Center at Portals ll, CY-A257, 445 12th Street SW., Washington, DC 20554. The complete text of this decision may also be purchased from the Commission's copy contractor, Best Copying and Printing, Inc. 445 12th Street SW., Room CY-B402, Washington, DC 20554, telephone 1-800-378-3160 or www.BCPIWEB.com. Because the Commission is denying the Petition for Reconsideration, the Commission will not send a copy of this Memorandum Opinion and Order in a report to Congress and the Government Accountability Office pursuant to the Congressional Review Act, see 5 U.S.C. 801(a)(1)(A).

The Memorandum Opinion and Order denied the Joint Parties Petition for Reconsideration because no error was committed in the Report and Order by requiring the Joint Parties Counterproposal to protect a previously filed and cut-off application. See 72 FR 37673, July 1, 2007. Although the Joint Parties Counterproposal had been filed and dismissed in an earlier proceeding, the refilling of the Counterproposal does not revive that dismissed proposal or create cut-off rights with regard to proposals in the present proceeding. Likewise, the Memorandum Opinion and Order determined that no error was committed by processing a “cut-off” application and relying on the effective but non-final dismissal of the Joint Parties Counterproposal in the earlier proceeding. Finally, the Memorandum Opinion and Order concluded that an engineering solution submitted by the Joint Parties could not be considered because it was filed late.

List of Subjects in 47 CFR Part 73

Radio, Radio broadcasting.

Federal Communications Commission.
Peter H. Doyle,
Chief, Audio Division, Media Bureau.

[FR Doc. 2014-19417 Filed 8-18-14; 8:45 am]

BILLING CODE 6712-01-P